DEPARTMENT OF AGRICULTURE

Rural Business-Cooperative Service

Announcement of Rural Cooperative Development Grant Application Deadlines

AGENCY: Rural Business-Cooperative Service, USDA.

ACTION: Notice of funds availability.

SUMMARY: USDA Rural Development is seeking applications for the Rural Cooperative Development Grant (RCDG) Program pursuant to section 310B(e) of the Consolidated Farm and Rural Development Act (7 U.S.C. 1932) (Act). As provided in the Department of Defense and Full-Year Continuing Appropriations Act of 2011 (H.R. 1473), approximately $7.4 million in competitive grant funds is available. The intended effect of this notice is to solicit applications for Fiscal Year (FY) 2011 and award grants on or before September 15, 2011. The maximum award per grant is $225,000 and matching funds are required. In accordance with section 310B(e)(6)(B) of the Act, the Secretary has determined that a grant period of one year is in the best interest of the program at this time.

DATES: Completed applications for grants must be submitted on paper or electronically according to the following deadlines:

Paper copies must be postmarked and mailed, shipped, or sent overnight no later than July 22, 2011, to be eligible for FY 2011 grant funding. Late applications are not eligible for FY 2011 grant funding.

Electronic copies must be received by July 22, 2011, to be eligible for FY 2011 grant funding. Late applications are not eligible for FY 2011 grant funding.

ADDRESSES: Application materials for a RCDG may be obtained at http://www.rurdev.usda.gov/BCP-RCDG_Grants.html or by contacting the applicant's USDA Rural Development State Office at http://www.rurdev.usda.gov/recd_map.html.

Submit completed paper applications for a grant to Cooperative Programs, Attn: RCDG Program, 1400 Independence Avenue SW., Mail Stop 3250, Room 4016-South, Washington, DC 20250-3250. The phone number that should be used for courier delivery is (202) 720-8460.

Submit electronic grant applications at http://www.grants.gov, following the instructions found on this Web site.

FOR FURTHER INFORMATION CONTACT: Visit the program Web site at http://www.rurdev.usda.gov/BCP-RCDG_Grants.html for application assistance or contact your USDA Rural Development State Office at http://www.rurdev.usda.gov/recd_map.html. Applicants are encouraged to contact their State Offices well in advance of the deadline to discuss their projects and ask any questions about the application process.

SUPPLEMENTARY INFORMATION:

Overview

Federal Agency: Rural Business-Cooperative Service.

Funding Opportunity Title: Rural Cooperative Development Grant.

Announcement Type: Initial announcement.

Catalog of Federal Domestic Assistance Number: 10.771.

DATES: Application Deadline: Completed applications for grants may be submitted on paper or electronically according to the following deadlines:

Paper copies must be postmarked and mailed, shipped, or sent overnight no later than July 22, 2011, to be eligible for FY 2011 grant funding. Electronic copies must be received by July 22, 2011, to be eligible for FY 2011 grant funding.

Late applications are not eligible for FY 2011 grant funding.

I. Funding Opportunity Description

RCDGs are authorized by section 310B(e) of the Act. Regulations implementing this authority are in 7 CFR part 4284, subparts A and F. The primary objective of the RCDG program is to improve the economic condition of rural areas through cooperative development. Grant funds are provided for the establishment and operation of Centers that have the expertise, or who can contract out for the expertise, to assist individuals or entities in the startup, expansion or operational improvement of rural businesses, especially cooperative or mutually-owned businesses (Section 310B(e)(5)). The program is administered through USDA Rural Development State Offices.

Definitions

The definitions published at 7 CFR 4284.3 and 7 CFR 4284.504 are incorporated by reference. The definition of “rural” and “rural area,” at section 343(a)(13) of (7 U.S.C. 1991(a)), are also incorporated by reference. In addition, since there has been some confusion on the Agency's meaning of the terms “conflict of interest,” and “mutually-owned business,” the Agency is providing clarification.

Conflict of Interest—A situation in which the ability of a person or entity to act impartially would be questionable due to competing professional or personal interests. An example of conflict of interest occurs when the grantee's employees, board of directors, or the immediate family of either, have the appearance of a professional or personal financial interest in the recipients receiving the benefits or services of the grant.

Mutually-Owned Business—An organization owned and governed by members who either are its consumers, producers, employees, or suppliers.

II. Award Information

Type of Award: Grant.

Fiscal Year Funds: FY 2011.

Approximate Total Funding: $7.4 million.

Approximate Number of Awards: 35.

Approximate Average Award: $225,000.

Floor of Award Range: None.

Ceiling of Award Range: $225,000.

Anticipated Award Date: September 15, 2011.

Budget Period Length: 12 months.

Project Period Length: 12 months.

III. Eligibility Information

A. Eligible Applicants

Grants may be made to nonprofit corporations and accredited institutions of higher education. Grants may not be made to public bodies or to individuals.

B. Cost Sharing or Matching

The cost share or matching fund requirement is 25 percent of the total project cost (5 percent in the case of 1994 Institutions). Calculation of cost share or matching fund level is as follows:

Grant amount requested = .75 × Total Project Cost.

Total project cost = Grant amount requested/.75.

Total project cost—Grant amount requested = Matching requirement.

For example:

Grant amount requested $225,000 = .75 × Total project cost; $225,000/.75 = Total project cost $300,000.

$300,000−$225,000 = $75,000 matching requirement.

Applicants must verify in their applications that all matching funds are available during the grant period. If an applicant is awarded a grant, additional verification documentation regarding the availability of matching funds may be required. All of the matching funds must be spent on eligible expenses during the grant period, and must be from eligible sources. Unless provided by other authorizing legislation, other Federal grant funds cannot be used as matching funds. However, matching funds may include loan proceeds from Federal sources. Matching funds must be spent in advance or as a pro-rata portion of grant funds being expended. All of the matching funds must be provided by either the applicant or a third party in the form of cash or in-kind contributions. The Cooperative Development Center must be able to document and verify the number of hours worked and the value associated with the in-kind contribution. Due to the difficulty in distinguishing the responsibilities normally associated with board/advisory council membership versus those directly associated with specific Center projects, the Agency will no longer accept board/advisory council members' time as an eligible in-kind matching contribution from the applicant. In-kind contributions from board/advisory council members in the form of their travel, incidentals, etc. are acceptable only if the Center has established written policies explaining how these costs are normally reimbursed, including rates, and an explanation of this policy is included in the application. In-kind contributions provided by individuals, businesses, or cooperatives which are being assisted by the Center cannot be provided for the direct benefit of their own projects as USDA Rural Development considers this to be a conflict of interest or the appearance of a conflict of interest.

C. Other Eligibility Requirements

Grant Period Eligibility: Applications should have a timeframe of no more than 365 consecutive days with the time period beginning no earlier than the date the grant is awarded, and no later than December 31, 2011. However, applicants should note that the anticipated award date is September 15 and proposed start dates should not fall prior to this date. Projects must be completed within the one-year timeframe. The Agency may approve requests to extend the grant period for up to 12 months at the discretion of the Agency. However, should the grantee compete successfully for an RCDG grant during the subsequent grant cycle, the first grant must be closed before funds can be obligated for the subsequent grant.

Completeness Eligibility: Applications without sufficient information to determine eligibility and scoring will be considered ineligible. Applications that are non-responsive to this notice will be considered ineligible.

Activity Eligibility: Applications must propose the development or continuation of a cooperative development center concept or they will not be considered for funding. In addition, the following applications will not be considered for funding. Applications that:

i. Focus assistance on only one cooperative or mutually-owned business.

ii. Request more than the maximum grant amount.

iii. Propose ineligible costs that equal more than 10 percent of the total project costs (Applications with ineligible costs of 10 percent or less of total project costs that are selected for funding must remove all ineligible costs from the budget and replace them with eligible activities or reduce the amount of the grant award accordingly).

IV. Application and Submission Information

A. Address To Request Application Package

The application package for applying on paper for this funding opportunity can be obtained at http://www.rurdev.usda.gov/BCP-RCDG_Grants.html.

For electronic applications, applicants must visit http://www.grants.gov and follow the instructions.

B. Submission Dates and Times

Applicants may submit their applications to their State Rural Development Office for a preliminary review by 30 days prior to the final application deadline published in this notice. The preliminary review will assess applicant and project eligibility, as well as completeness of the application in terms of presence of the required elements. Should the Agency identify missing or incomplete elements, the applicant will be notified and given an opportunity to submit the missing elements before the final deadline published in the Federal Register. Missing elements will not be accepted after the final application deadline. This preliminary review is an informal assessment of the application and not a final evaluation of the application. Findings of the preliminary review are courtesy only and are not binding on the Agency nor are they appealable. Applications must be submitted on paper or electronically.

Final paper applications must be postmarked and mailed, shipped, or sent overnight no later than July 22, 2011, to be eligible for FY 2011 grant funding. Applications postmarked, mailed, or shipped after July 22, 2011 will not be processed. Final electronic applications must be received by July 22, 2011, to be eligible for FY 2011 grant funding. If the application is submitted electronically, the applicant must follow the instructions given at http://www.grants.gov. Applicants are advised to visit the site well in advance of the application deadline if they plan to apply electronically to ensure they have obtained the proper authentication and have sufficient computer resources to complete the application.

C. Content and Form of Submission

An application guide may be viewed at http://www.rurdev.usda.gov/BCP-RCDG_Grants.html.

It is recommended that applicants use the template provided on the Web site. The template can be filled out electronically and printed out for submission with the required forms for paper submission or it can be filled out electronically and submitted as an attachment through http://www.grants.gov.

The submission must include all pages of the application. It is recommended that the application be in black and white, not color. Those evaluating the application will only receive black and white images.

The Agency will then screen all applications for eligibility to determine whether the application is sufficiently responsive to the requirements set forth in this notice to allow for an informed review. Information submitted as part of the application will be protected to the extent permitted by law. An application guide and forms are available online at http://www.rurdev.usda.gov/BCP-RCDG_Grants.html.

Applicants must complete and submit the following elements as part of the application package.

1. Form SF-424, “Application for Federal Assistance,” must be completed, signed, and must include a Dunn and Bradstreet Data Universal Numbering System (DUNS) number and maintain registration in the Central Contractor Registration (CCR) database in accordance with 2 CFR part 25. The DUNS number is a nine-digit identification number which uniquely identifies business entities. There is no charge. To obtain a DUNS number, access http://www.dnb.com/us/ or call 866-705-5711. Similarly, applicants may register for the CCR at http://www.ccr.gov. Assistance with CCR registration is available by calling 1-866-606-8220. The CCR CAGE Code and expiration date may be handwritten on the SF-424. For more information, see the RCDG Web site at http://www.rurdev.usda.gov/BCP-RCDG_Grants.html or contact the USDA Rural Development State Office at http://www.rurdev.usda.gov/recd_map.html.

2. Form SF-424A, “Budget Information—Non-Construction Programs,” must be completed and signed.

3. Form SF-424B, “Assurances—Non-Construction Programs,” must be completed and signed.

4. Survey on Ensuring Equal Opportunity for Applicants. The Agency is required to make this survey available to all nonprofit applicants. Submission of this form is voluntary.

5. Title Page. To include the title of the project as well as any other relevant identifying information.

6. Table of Contents. To facilitate review, include page numbers for each component of the application.

7. Executive Summary. A summary of the proposal, not to exceed two pages, must briefly describe the Center, including project goals and tasks to be accomplished, the amount requested, how the work will be performed (e.g., Center staff, consultants, or contractors) and the percentage of work that will be performed among the parties.

8. Eligibility Discussion. The applicant must describe, not to exceed two pages, how it meets the applicant, matching, grant period and activity eligibility requirements.

9. Proposal Narrative. The proposal narrative is limited to a total of 40 pages.

i. Project Title. The title of the proposed project must be brief, not to exceed 75 characters, yet describe the essentials of the project. If a title page was included under number 5 above, it is not necessary to include an additional title page under this section.

ii. Information Sheet. A separate one-page information sheet listing each of the evaluation criteria referenced in this funding announcement, followed by the page numbers of all relevant material and documentation contained in the proposal that address or support the criteria. If the evaluation criteria are listed on the Table of Contents and specifically and individually addressed in narrative form, then it is not necessary to include an information sheet under this section.

iii. Goals of the Project. The applicant must include the following statements in this section of the narrative to demonstrate that the Center is following these statutory requirements:

a. A statement that substantiates that the Center will effectively serve rural areas in the United States;

b. A statement that the primary objective of the Center will be to improve the economic condition of rural areas through cooperative development;

c. A description of the contributions that the proposed activities are likely to make to the improvement of the economic conditions of the rural areas for which the Center will provide services. Expected economic impacts should be tied to tasks included in the work plan and budget; and

d. A statement that the Center, in carrying out its activities, will seek, where appropriate, the advice, participation, expertise, and assistance of representatives of business, industry, educational institutions, the Federal government, and State and local governments.

iv. Performance Measures. The Agency has established annual performance evaluation measures to evaluate the RCDG program. Applicants must provide estimates on the following performance evaluation measures.

• Number of groups who are not legal entities assisted.

• Number of businesses that are not cooperatives assisted.

• Number of cooperatives assisted.

• Number of businesses incorporated that are not cooperatives.

• Number of cooperatives incorporated.

• Total number of jobs created as a result of assistance

Note: where not relevant—housing, for example—the applicant should suggest a more relevant performance measure.

).

• Total number of jobs saved as a result of assistance.

Note: where not appropriate—housing, for example—the applicant should suggest a more appropriate performance measure.

• Number of jobs created for the Center as a result of RCDG funding.

• Number of jobs saved for the Center as a result of RCDG funding.

If selected for funding, the applicant will be required to report actual numbers for these performance elements on a semi-annual basis and in the final performance report. Additional information on post-award requirements can be found in Section VI. Applicants must also suggest additional performance elements in the event the proposal receives grant funding. These additional criteria should be specific, measurable performance elements, but are not binding on USDA.

v. Undertakings. The applicant must describe in the application how it will undertake to do each of the following:

(a). Take all practicable steps to develop continuing sources of financial support for the Center, particularly from sources in the private sectors; (should be presented under proposal evaluation criterion number 9, utilizing the specific requirements of section V.A.9);

(b). Make arrangements for the Center's activities to be monitored and evaluated; (should be addressed under proposal evaluation criterion number 6 utilizing the specific requirements of section V.A.6); and

(c). Provide an accounting for the money received by the grantee in accordance with 7 CFR part 4284, subpart F. This should be addressed under proposal evaluation criterion number 1, utilizing the specific requirements of section V.A.1.

vi. Work Plan and Budget (should be presented under proposal evaluation criterion number 6, utilizing the specific requirements in section V.A.6).

vii. Delivery of Technical Assistance and Other Services in rural areas to promote and assist the development of cooperatively and mutually-owned businesses (should be described under proposal evaluation criterion number 2, utilizing the specific requirements under section V.A.2).

viii. Qualifications of Personnel (should be presented under proposal evaluation criterion number 7, utilizing the specific requirements under section V.A.7).

ix. Local Support (should be described under proposal evaluation criterion number 8, utilizing the requirements in section V.A.8).

x. Future Support (should be described under proposal evaluation criterion number 9, utilizing the specific requirements under V.A.9).

xi. Proposal Evaluation Criteria. Each of the evaluation criteria referenced in this funding announcement must be specifically and individually addressed in narrative form. Applications that do not address all of the proposal evaluation criteria will be considered ineligible. See Section V.A. for a description of the Proposal Evaluation Criteria.

10. Certification of Judgment Owed to the United States. Applicants must certify that there are no current outstanding Federal judgments against their property. No grant funds shall be used to pay a judgment obtained by the United States. It is suggested that applicants use the following language for the certification. “[INSERT NAME OF APPLICANT] certifies that the United States has not obtained an unsatisfied judgment against its property and will not use grant funds to pay any judgments obtained by the United States.” A separate signature is not required.

11. Certification of Matching Funds. Applicants must certify that matching funds will be available at the same time grant funds are anticipated to be spent and that expenditures of matching funds are pro-rated, such that for every dollar of the total project cost, not less than the required amount of matching funds will have been expended prior to submitting the request for reimbursement. Please note that this certification is a separate requirement from the Verification of Matching Funds requirement. To satisfy the Certification requirement, applicants should include this statement for this section: “[INSERT NAME OF APPLICANT] certifies that matching funds will be available at the same time grant funds are anticipated to be spent and that expenditures of matching funds shall be pro-rated, such that * * * and that matching funds will be spent in advance of grant funding, such that for every dollar of the total project cost, at least 25 cents (5 cents for 1994 Institutions) of matching funds will have been expended prior to submitting the request for reimbursement.” A separate signature is not required. In the case of fund advances, the applicant will certify that for every dollar of funds advanced, at least 25 cents (5 cents for 1994 Institutions) of matching funds will be expended.

12. Verification of Matching Funds. Applicants must provide documentation of all proposed matching funds, both cash and in-kind. Matching funds must be used for eligible purposes and expenditures for this grant program. The documentation must be included in Appendix A of the application and will not count towards the 40-page limitation. Template letters for each type of matching funds are available at http://www.rurdev.usda.gov/BCP-RCDG_Grants.html.

If matching funds are to be provided in cash, the following requirements must be met at the time of application. Additional documentation may be required if a grant is awarded.

Applicant: The application must include a statement verifying (1) The amount of the cash, and (2) the source of the cash. If the applicant is paying for goods and/or services as part of the matching funds contribution, the expenditure is considered a cash match, and should be verified as such.

Third-party: The application must include a signed letter from the third party verifying (1) How much cash will be donated, and (2) that it will be available corresponding to the proposed grant period or donated on a specific date within the grant period. Cash matching contributions from third-parties are to be used for Center operations and cannot be used to provide services which directly benefit the third-party contributor. Contributors of cash matching contributions may not limit or direct how or where the Center may use the contributions.

If matching funds are to be provided by an in-kind donation, the following requirements must be met.

Applicant: The application must include a signed letter from the applicant or its authorized representative verifying (1) The nature of the goods and/or services to be donated and how they will be used, (2) when the goods and/or services will be donated (i.e., corresponding to the proposed grant period or to specific dates within the grant period), and (3) the value of the goods and/or services.

Third-Party: The application must include a signed letter from the third party verifying (1) The nature of the goods and/or services to be donated and how they will be used, (2) when the goods and/or services will be donated (i.e., corresponding to the proposed grant period or to specific dates within the grant period when matching contributions will be made available), and (3) the value of the goods and/or services. It should be noted that non-profit or other organizations contributing the services of affiliated volunteers must follow the third-party verification requirement above, for each individual volunteer.

Applicants should note the following:

• Only goods or services for which no expenditure is made can be considered in-kind.

• In-kind contributions that are over-valued will not be accepted. The valuation process for in-kind funds does not need to be included in the application, but the applicant must be able to demonstrate how the valuation was derived at the time of notification of tentative selection for the grant award, or the grant award may be withdrawn or the amount of the grant may be reduced. Matching funds donated outside the proposed time period of the grant will not be accepted.

• Examples of unacceptable matching funds are in-kind contributions from individuals, businesses, or cooperatives being assisted by the Center to benefit their own project; donations of fixed equipment and buildings; and costs related to the preparation of the RCDG application package.

Expected program income may not be used to fulfill the matching funds requirement at the time of application. However, if there are contracts to provide services in place at the time of application, they may be treated as cash match. If program income is earned during the time period of the grant, it is subject to applicable requirements of 7 CFR part 3015, subpart F and 7 CFR 3019.24, and any applicable provisions in the Grant Agreement.

D. Submission Dates and Times

Application Deadline Date: July 22, 2011.

Explanation of Deadlines: Paper applications must be postmarked by the deadline date (see Section IV.G for the address). Electronic applications must be received by http://www.grants.gov by the deadline date. If the application does not meet the deadline above, it will not be considered for funding. The applicant will be notified if the application does not meet the submission requirements. The applicant will also be notified by mail or by e-mail if the application is received on time.

E. Intergovernmental Review of Applications

Executive Order (EO) 12372, Intergovernmental review of Federal programs, applies to this program. This EO requires that Federal agencies provide opportunities for consultation on proposed assistance with State and local governments. Many states have established a Single Point of Contact (SPOC) to facilitate this consultation. For a list of states that maintain an SPOC, please see the White House Web site: http://www.whitehouse.gov/omb/grants_spoc. If an applicant's state has an SPOC, the applicant may submit a copy of the application directly for review. Any comments obtained through the SPOC must be provided to USDA Rural Development for consideration as part of the application. If the applicant's state has not established an SPOC, or the applicant does not want to submit a copy of the application, USDA Rural Development will submit the application to the SPOC or other appropriate agency or agencies.

Applicants are also encouraged to contact the USDA Rural Development State Office for assistance and questions on this process. Contact information for USDA Rural Development State Offices can be viewed at http://www.rurdev.usda.gov/recd_map.html.

F. Funding Restrictions

Funding restrictions apply to both grant funds and matching funds. Grant funds may be used to pay up to 75 percent (95 percent where the grantee is a 1994 Institution) of the total project cost.

1. Grant funds and matching funds may be used for, but are not limited to, providing the following to individuals, small businesses, cooperative and mutually-owned businesses and other similar entities in rural areas served by the Center (7 U.S.C 1932(e)(4)(c) and 7 U.S.C 1932(e)(5):

i. Applied research, feasibility, environmental and other studies that may be useful for the purpose of cooperative development.

ii. Collection, interpretation and dissemination of principles, facts, technical knowledge, or other information for the purpose of cooperative development.

iii. Training and instruction for the purpose of cooperative development.

iv. Loans and grants for the purpose of cooperative development in accordance with this notice and applicable regulations.

v. Technical assistance, research services and advisory services for the purpose of cooperative development.

vi. Programs providing for the coordination of services and sharing of information among the Centers (7 U.S.C 1932(e)(4)(C)(vi)).

2. No funds made available under this solicitation shall be used for any of the following activities:

i. To duplicate current services or replace or substitute support previously provided. If the current service is inadequate, however, grant funds may be used to expand the level of effort or services beyond that which is currently being provided;

ii. To pay costs of preparing the application package for funding under this program;

iii. To pay costs of the project incurred prior to the date of grant approval;

iv. To fund political or lobbying activities;

v. To pay any judgment or debt owed to the United States;

vi. To plan, repair, rehabilitate, acquire, or construct a building or facility, including a processing facility;

vii. To purchase, rent, or install fixed equipment, including laboratory equipment or processing machinery;

viii. To pay for the repair of privately owned vehicles;

ix. To pay for the operating costs of any entity receiving assistance from the Center.

x. To fund research and development;

xi. To pay costs of the project where a conflict of interest exists; or

xii. To fund any activities prohibited by 7 CFR parts 3015 or 3019.

G. Other Submission Requirements

A paper application for a grant must be submitted to Cooperative Programs, Attn: RCDG Program, 1400 Independence Avenue, SW., Mail Stop 3250, Room 4016-South, Washington, DC 20250-3250. The phone number that should be used for courier delivery is (202) 720-8460. Electronically submitted applications must apply using http://www.grants.gov. Applications may not be submitted by electronic mail, facsimile, or by hand-delivery. Each application submission must contain all required documents.

V. Application Review Information

A. Proposal Evaluation Criteria

All eligible and complete applications will be evaluated based on the following criteria. Applicants must also include information as directed in Section IV.C.9.v.(a), (b), and (c). Evaluators will base scores only on the information provided or cross-referenced by page number in each individual evaluation criterion. The maximum amount of points available is 100. Note: Newly established or proposed Centers that do not yet have a track record on which to evaluate the following criteria should refer to the expertise and track records of staff or consultants expected to perform tasks related to the respective criteria. Proposed or newly established Centers must be organized well-enough at time of application to address its capabilities for meeting these criteria.

1. Administrative capabilities in support of Center activities. (maximum score of 10 points) The Agency will evaluate the application to determine whether the applicant demonstrates a proven track record in carrying out activities in support of development assistance to cooperatively and mutually owned businesses. At a minimum, applicants must discuss the following capabilities:

i. Financial systems and audit controls;

ii. Personnel and program administration performance measures;

iii. Clear written rules of governance; and

iv. Experience administering Federal grant funding, including but not limited to past RCDG's.

Applicants that discuss the Center's administrative capabilities and track record, versus those of umbrella or supporting institutions, such as universities or parent organizations, will score higher.

2. Technical assistance and other services. (maximum score of 15 points) The Agency will evaluate the applicant's demonstrated expertise in providing technical assistance and accomplishing effective outcomes in rural areas to promote and assist the development of cooperatively and mutually-owned businesses. The applicant must discuss:

i. Their potential for delivering effective technical assistance;

ii. The types of assistance provided;

iii. The expected effects of that assistance;

iv. The sustainability of organizations receiving the assistance; and

v. The transferability of its cooperative development strategies and focus to other areas of the U.S.

Applicants that evidence effective delivery systems for cooperative development will score higher. Applicants that discuss the demonstrated expertise specific to the Center (as opposed to umbrella or supporting institutions such as universities or parent organizations) will score higher.

3. Economic development. (maximum score of 15 points) The Agency will evaluate the applicant's demonstrated ability to facilitate:

i. Establishment of cooperatives or mutually-owned businesses;

ii. New cooperative approaches, and

iii. Retention of businesses, generation of employment opportunities or other factors, as applicable, that will otherwise improve the economic conditions of rural areas.

Applicants that provide statistics for historical and potential development and identify their role in economic development outcomes will score higher.

4. Networking and regional focus. (maximum score of 10 points) The Agency will evaluate the applicant's demonstrated commitment to:

i. Networking with other cooperative development centers, and other organizations involved in rural economic development efforts, as well as,

ii. Developing multi-organization and multi-state approaches to addressing the economic development and cooperative needs of rural areas.

New or proposed Centers are expected to be developed enough to address this criteria.

5. Commitment. (maximum score of 10 points) The Agency will evaluate the applicant's commitment to providing technical assistance and other services to under-served and economically distressed areas in rural areas of the United States. Applicants that define and describe the underserved and economically distressed areas within their service area, provide statistics, and identify projects within or affecting these areas, as appropriate, will score higher.

6. Work Plan/Budget. (maximum score of 10 points) The work plan will be reviewed for detailed actions and an accompanying timetable for implementing the proposal. Clear, logical, realistic and efficient plans will result in a higher score. Budgets will be reviewed for completeness and the quality of non-Federal funding commitments. Applicants must discuss:

i. Specific tasks (whether it be by type of service or specific project) to be completed using grant and matching funds;

ii. How customers will be identified;

iii. Key personnel; and

iv. The evaluation methods to be used to determine the success of specific tasks and overall objectives of Center operations.

The budget must present a breakdown of the estimated costs associated with cooperative development activities as well as the operation of the Center and allocate these costs to each of the tasks to be undertaken. Matching funds as well as grant funds must be accounted for in the budget.

7. Qualifications of those Performing the Tasks. (maximum score of 10 points) The Agency will evaluate the application to determine if the personnel expected to perform key tasks have a track record of:

i. Positive solutions for complex cooperative development and/or marketing problems; or

ii. A successful record of conducting accurate feasibility studies, business plans, marketing analysis, or other activities relevant to applicant's success as determined by the tasks identified in the applicants work plan; and

iii. Whether the personnel expected to perform the tasks are full/part-time employees of the applicant or are contract personnel. Applicants that evidence commitment/availability of qualified personnel expected to perform the tasks will score higher.

8. Local support. (maximum score of 10 points) The Agency will evaluate applications for previous and/or expected local support for the applicant and plans for coordinating with other developmental organizations in the proposed service area or with state and local government institutions. Applicants that evidence strong support from potential beneficiaries and formal evidence of intent to coordinate with other developmental organizations will score higher. Support should be discussed directly within the response to this criterion. The applicant may also submit a maximum of 10 letters of support or intent to coordinate with the application. These letters should be included in Appendix B of the application and will not count against the 40-page limit for the narrative.

9. Future support. (maximum score of 10 points) The Agency will evaluate the applicant's vision for funding its operations in future years. Applicants should document:

i. New and existing funding sources that support its goals;

ii. Alternative funding sources that reduce reliance on Federal, State, and local grants; and

iii. The use of in-house personnel for providing services versus contracting out for that expertise.

Applications that evidence vision and likelihood of long-term sustainability with diversification of funding sources and building in-house technical assistance capacity will score higher.

B. Review and Selection Process

The Agency will screen all of the proposals to determine whether the application is eligible and sufficiently responsive to the requirements set forth in this notice to allow for an informed review.

The Agency will evaluate applications using a panel of qualified reviewers who will score the applications in accordance with the point allocation specified in this notice. Applications will be submitted to the Administrator in rank order, together with funding level recommendations.

C. Anticipated Announcement and Award Dates

Award Date: The announcement of award selections is expected to occur on or about September 15, 2011.

VI. Award Administration Information

A. Award Notices

Successful applicants will receive a notification of tentative selection for funding from USDA Rural Development. Applicants must comply with all applicable statutes, regulations, and notice requirements before the grant award will be approved. Unsuccessful applicants will receive notification by mail, including appeal rights, as appropriate. Consolidated comments for reviewed applications will be made available.

B. Administrative and National Policy Requirements

7 CFR parts 3015, 3019, and 4284 are applicable to this program. To view these regulations, please see the following internet address: http://www.access.gpo.gov/nara/cfr/cfr-table-search.html.

The following additional requirements apply to grantees selected for this program:

• Grant Agreement.

• Letter of Conditions.

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding Drug-Free Workplace Requirements (Grants).”

• Form RD 400-4, “Assurance Agreement.”

• RD Instruction 1940-Q, Exhibit A-1, “Certification for Contracts, Grants and Loans,” including Standard Form (SF) LLL, “Disclosure of Lobbying Activities.”

Compliance with the National Environmental Policy Act. Rural Development has determined that an Environmental Impact Statement is not required because the issuance of regulations and instructions, as well as amendments to them, describing administrative and financial procedures for processing, approving, and implementing the Agency's financial programs is categorically excluded in the Agency's NEPA regulation found at 7 CFR 1940.310(e) of Subpart G, Environmental Program. Thus, in accordance with the National Environmental Policy Act (NEPA) of 1969 (42 U.S.C 4321-4347), Rural Development has determined that this Notice of Funding Availability (NOFA) does not constitute a major federal action significantly affecting the quality of the human environment. Furthermore, individual awards under this NOFA are hereby classified as Categorical Exclusions according to 1940.310(e), the award of financial assistance for planning purposes, management and feasibility studies, or environmental impact analyses, which do not require any additional documentation.

Additional information on these requirements can be found at http://www.rurdev.usda.gov/BCP-RCDG_Grants.html.

Reporting Requirements: Grantees must provide USDA Rural Development with an original or electronic copy that includes all required signatures of the following reports. The reports should be submitted to the Agency contact listed on the Grant Agreement and Letter of Conditions. Failure to submit satisfactory reports on time may result in suspension or termination of the grant.

Compliance with the Federal Funding Accountability and Transparency Act of 2006. All recipients of federal financial assistance are required to report information about first-tier sub-awards and executive compensation in accordance with 2 CFR part 170. Similarly, all recipients of federal financial assistance must comply with the DUNS and CCR requirements found at 2 CFR part 25.

1. Form SF-425, a “Federal Financial Report,” listing expenditures according to agreed upon budget categories, on a semi-annual basis. Reporting periods end each March 31 and September 30. Reports are due 30 days after the reporting period ends.

2. Semi-annual performance reports that compare accomplishments to the objectives stated in the proposal. Identify all tasks completed to date and provide documentation supporting the reported results. If the original schedule provided in the work plan is not being met, the report should discuss the problems or delays that may affect completion of the project. Objectives for the next reporting period should be listed. Compliance with any special conditions on the use of award funds should be discussed. The report should also include a summary at the end of the report with the following elements to assist in documenting the annual performance goals of the RCDG program for Congress.

• Number of groups who are not legal entities assisted.

• Number of businesses that are not cooperatives assisted.

• Number of cooperatives assisted.

• Number of businesses incorporated that are not cooperatives.

• Number of cooperatives incorporated.

• Total number of jobs created as a result of assistance

Note: where not relevant—housing, for example—the applicant should suggest a more relevant performance measure.

• Total number of jobs saved as a result of assistance

Note: where not relevant—housing, for example—the applicant should suggest a more relevant performance measure.

• Number of jobs created for the Center as a result of RCDG funding.

• Number of jobs saved for the Center as a result of RCDG funding.

• Additional performance measures identified by the grantee in Section 4(iv) of the application and accepted as binding in the Grant Agreement.

Reports are due as provided in paragraph 1 of this section. Supporting documentation must also be submitted for completed tasks. The supporting documentation for completed tasks includes, but is not limited to: Feasibility studies, marketing plans, business plans, publication quality success stories, applied research reports, copies of surveys conducted, articles of incorporation and bylaws and an accounting of how outreach, training, and other funds were expended.

3. Final project performance reports shall include all of the requirements of the semi-annual performance reports and responses to the following:

i. What have been the most challenging or unexpected aspects of this program?

ii. What advice would the grantee give to other organizations planning a similar program? These should include strengths and limitations of the program. If the grantee had the opportunity, what would they have done differently?

iii. If an innovative approach was used successfully, the grantee should describe their program in detail so that other organizations might consider replication in their areas.

The final performance report is due within 90 days of the completion of the project.

VII. Agency Contacts

For general questions about this announcement and for program technical assistance, applicants should contact their USDA Rural Development State Office at http://www.rurdev.usda.gov/recd_map.html. If an applicant is unable to contact their State Office, please contact a nearby State Office or the USDA Rural Development National Office at 1400 Independence Avenue, SW., Mail Stop 3250, Room. 4016-South, Washington, DC 20250-3250, telephone: (202) 720-8460, e-mail: cpgrants@wdc.usda.gov.

VIII. Nondiscrimination Statement

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Civil Rights, 1400 Independence Avenue, SW., Washington, DC 20250-9410 or call (866) 632-9992 (voice) or (202) 401-0216 (TDD). USDA is an equal opportunity provider and employer.

Dated: May 31, 2011.
Judith A. Canales,
Administrator, Rural Business Cooperative Service.

[FR Doc. 2011-13927 Filed 6-6-11; 8:45 am]

BILLING CODE 3410-XY-P